ENVIRONMENTAL PROTECTION AGENCY

[GA47-200003; FRL-6543-4 ]

Adequacy Status of the Atlanta, Georgia Submitted Ozone Attainment State Implementation Plan for Transportation Conformity Purposes

AGENCY: Environmental Protection Agency (EPA).

ACTION: Notice of adequacy.

SUMMARY: In this notice, EPA is notifying the public that we have found that the motor vehicle emissions budgets in the Atlanta, Georgia ozone attainment State Implementation Plan (SIP) submitted on October 28, 1999, are adequate for conformity purposes. On March 2, 1999, the D.C. Circuit Court ruled that submitted SIPs cannot be used for conformity determinations until EPA has affirmatively found them adequate. As a result of our finding, the Atlanta ozone nonattainment area can use the motor vehicle emissions budgets from the submitted ozone attainment SIP for future conformity determinations.

DATES: These budgets are effective March 14, 2000.

FOR FURTHER INFORMATION CONTACT: The finding and the response to comments will be available at EPA's conformity website: http://www.epa.gov/oms/traq, (once there, click on the “Conformity” button, then look for “Adequacy Review of SIP Submissions for Conformity”).

The SIP is available for public viewing at the United States Environmental Protection Agency, 61 Forsyth Street, S.W., Atlanta, Georgia, 30303. You can request a copy of the SIP submission by contacting Kelly Sheckler, Regulatory Planning Section, United States Environmental Protection Agency, 61 Forsyth Street, S.W., Atlanta, Georgia 30303, Phone: (404) 562-9042, Fax: (404) 562-9019, E-mail: Sheckler.Kelly@epa.gov.

SUPPLEMENTARY INFORMATION:

Background

Today's notice is simply an announcement of a finding that we have already made. EPA Region 4 sent a letter to Georgia Environmental Protection Division on [DATE] stating that the motor vehicle emissions budgets in the October 28, 1999, Atlanta ozone attainment SIP for 2003 are adequate. This finding has been announced on EPA's conformity website referenced above.

Transportation conformity is required by section 176(c) of the Clean Air Act. EPA's conformity rule requires that transportation plans, programs, and projects conform to SIPs and establishes the criteria and procedures for determining whether or not they do. Conformity to a SIP means that transportation activities will not produce new air quality violations, worsen existing violations, or delay timely attainment of the national ambient air quality standards.

We've described our process for determining the adequacy of submitted SIP budgets in guidance (May 14, 1999 memo titled “Conformity Guidance on Implementation of March 2, 1999 Conformity Court Decision”). This guidance was used in making our adequacy determination. The criteria by which we determine whether a SIP's motor vehicle emission budgets are adequate for conformity purposes are outlined in 40 CFR 93.118(e)(4). Please note that an adequacy review is separate from EPA's completeness review, and it also should not be used to prejudge EPA's ultimate action to approve or disapprove the SIP. The SIP could later be disapproved for reasons unrelated to the transportation conformity even though the budgets had been deemed adequate.

Authority: 42 U.S.C. 7401-7671q.

Dated: February 17, 2000.
Stanley Meiburg,
Acting Regional Administrator, Region 4.

[FR Doc. 00-4654 Filed 2-25-00; 8:45 am]

BILLING CODE 6560-50-P